FEDERAL COMMUNICATIONS COMMISSION

[OMB 3060-1186]

Information Collection Being Submitted for Review and Approval to the Office of Management and Budget

AGENCY: Federal Communications Commission.

ACTION: Notice and request for comments.

SUMMARY: As part of its continuing effort to reduce paperwork burdens, and as required by the Paperwork Reduction Act (PRA) of 1995 (44 U.S.C. 3501-3520), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees. The FCC may not conduct or sponsor a collection of information unless it displays a currently valid OMB control number. No person shall be subject to any penalty for failing to comply with a collection of information subject to the PRA that does not display a valid OMB control number.

DATES: Written comments should be submitted on or before December 15, 2014. If you anticipate that you will be submitting comments, but find it difficult to do so within the period of time allowed by this notice, you should advise the contacts below as soon as possible.

ADDRESSES: Direct all PRA comments to Nicholas A. Fraser, OMB, via email Nicholas_A._Fraser@omb.eop.gov; and to Nicole Ongele, FCC, via email PRA@fcc.gov and to Nicole.Ongele@fcc.gov. Include in the comments the OMB control number as shown in the Supplementary Information section below.

FOR FURTHER INFORMATION CONTACT: For additional information or copies of the information collection, contact Nicole Ongele at (202) 418-2991.

To view a copy of this information collection request (ICR) submitted to OMB: (1) Go to the Web page <http://www.reginfo.gov/public/do/PRAMain>, (2) look for the section of the Web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the OMB control number of this ICR and then click on the ICR Reference Number. A copy of the FCC submission to OMB will be displayed.

SUPPLEMENTARY INFORMATION:

OMB Control Number: 3060-1186.

Title: Rural Call Completion, WC Docket No. 13-39.

Form Number: N/A.

Type of Review: Revision of a currently approved collection.

Respondents: Businesses or other for-profit entities.

Number of Respondents and Responses: 225 respondents; 940 responses.

Estimated Time per Response: 12.5 hours (per quarter).

Frequency of Response: Quarterly and one-time reporting requirements and recordkeeping.

Obligation to Respond: Required to obtain or retain benefit. The statutory authority for the information collection requirements are contained in section contained in 47 U.S.C. 151, 154(i), 201(b), 202(a), 218, 220(a), 251(a), 403.

Total Annual Burden: 11,280 hours.

Total Annual Cost: $793,750.

Privacy Impact Assessment: No impact(s).

Nature and Extent of Confidentiality: An assurance of confidentiality is not offered because this information collection does not require the collection of personally identifiable information from individuals. If the FCC requests that respondents submit information which respondents believe is confidential, respondents may request confidential treatment of such information pursuant to Section 0.459 of the FCC's rules, 47 CFR 0.459.

Needs and Uses: The rules adopted in the Rural Call Completion Report and Order (“Order”), WC Docket No. 13-39, FCC 13-135, require covered providers to record, retain and report call completion data. Covered providers are providers of long-distance voice service that make the initial long-distance call path choice for more than 100,000 domestic retail subscriber lines. These providers generally must collect call completion data, retain such data for six months, and file quarterly reports with the Commission. The collection of this data will give the Commission the information it needs to investigate rural call completion problems. In addition to the recordkeeping, retention, and reporting obligations described above, the Order also requires certain providers to file a one-time letter in the docket explaining that they do not make the initial long-distance call path choice and identifying the long-distance provider or providers to which they hand off their end-user customers' calls. Finally, the Order encourages rural incumbent local exchange carriers to report quarterly on the number of incoming long-distance call attempts received, the number answered on its network, and the call answer rate calculation for each of the previous three months. The Commission subsequently made minor modifications to this information collection in the Rural Call Completion Reconsideration Order (“Reconsideration Order”), WC Docket No. 13-39, FCC 14-175. In the Reconsideration Order, the Commission granted USTelecom/ITTA's request that the reporting requirements exclude on-net intraLATA toll calls that are not handed off to unrelated carriers and are delivered directly to the terminating local exchange carrier or to the tandem that it subtends. The Commission found that this traffic comprises a small portion of on-net traffic (traffic that is not handed off to unrelated carriers) in general, that other on-net traffic will provide an adequate benchmark for off-net performance, and that the cost of applying the rules to this particular subset of traffic outweigh the benefits.

Gloria J. Miles,
Federal Register Liaison Officer.

[FR Doc. 2014-26990 Filed 11-13-14; 8:45 am]

BILLING CODE 6712-01-P